ENVIRONMENTAL PROTECTION AGENCY

[FRL-8178-2]

Release of the U.S. Environmental Protection Agency's Third Edition of the Peer Review Handbook

AGENCY: Environmental Protection Agency.

ACTION: Notice of availability.

SUMMARY: The U.S. Environmental Protection Agency (EPA) is committed to providing quality environmental information to its partners and the public. This commitment is integral to its mission to protect human health and the environment. High quality information enables stakeholders to effectively participate in managing human health and environmental risks. Peer Review, the evaluation of a product by experts in that field, is a critical tool used to ensure that only high-quality, sound science is released. Peer Review has a long and exemplary history at the EPA. In response to recommendations in the 1993 SAB report Safeguarding the Future: Credible Science, Credible Decisions, EPA issued an Agency-wide policy for peer review. In 1994 EPA reaffirmed the central role of peer review and instituted an Agency-wide implementation program. In 1998, a Peer Review Handbook was created as a single, centralized form of implementation guidance for Agency staff and managers. An updated Peer Review Policy was signed by the Administrator on January 31, 2006. A third edition of the Peer Review Handbook is now being released. It incorporates insights gained from implementing the program over the last decade as well as the provisions of the OMB Final Information Quality Bulletin for Peer Review (PRB). The OMB PRB contains provisions for the conduct of peer review at all federal agencies in order to enhance transparency and accountability. The OMB Bulletin applies to “influential scientific information” and “highly influential scientific assessments.” Peer Review brings independent expert experience and judgment to Agency issues and plays a large part in ensuring that EPA's decisions rest on sound, credible science and data.

FOR FURTHER INFORMATION CONTACT: Go to http://www.epa.gov/PeerReview or contact Barbara Klieforth, (202.564.6787) Science Policy Council Staff, Office of the Science Advisor, U.S. EPA.

Dated: May 24, 2006.
George Gray,
EPA Science Advisor.

[FR Doc. E6-8612 Filed 6-1-06; 8:45 am]

BILLING CODE 6560-50-P